DEPARTMENT OF THE TREASURY

Submission for OMB Review; Comment Request

October 25, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW. Washington, DC 20220.

DATES: Written comments should be received on or before December 1, 2005 to be assured of consideration.

Bureau of Engraving and Printing (BEP)

OMB Number: 1520-0001.

Type of Review: Extension.

Title: Owner's Affidavit of Partial Destruction of Mutilated Currency.

Form: BEP form 5283.

Description: The Office of Currency Standards, Bureau of Engraving and Printing requests owners of partially destroyed U.S. currency to complete a notarized affidavit (BEP 5283) for each claim submitted when substantial portions of notes are missing.

Respondents: Individuals or households.

Estimated Total Burden Hours: 90 hours.

OMB Number: 1520-0002.

Type of Review: Extension.

Title: Claims for Amounts Due in the Case of Deceased Owner of Mutilated Currency.

Form: BEP form 5287.

Description: The Office of Currency Standards, Bureau of Engraving and Printing uses form BEP 5287 to determine ownership in cases of a deceased owner mutilated currency.

Respondents: Individuals or households.

Estimated Total Burden Hours: 110 hours.

Clearance Officer: Pamela V. Grayson, (202) 874-2212, Bureau of Engraving and Printing, 14th & C Street, SW., Washington, DC 20228.

OMB Reviewer: Alexander T. Hunt, (202) 395-7316, Office of Management and Budget, Room 10235, New Executive Office Building, Washington, DC 20503.

Michael A. Robinson,
Treasury PRA Clearance Officer.

[FR Doc. 05-21743 Filed 10-31-05; 8:45 am]

BILLING CODE 4840-01-P